DEPARTMENT OF THE TREASURY

Office of Thrift Supervision

[AC-54: OTS No. H-4752]

Alliance Bancorp, Inc. of Pennsylvania, Broomall, PA; Approval of Conversion Application

Notice is hereby given that on November 10, 2010, the Office of Thrift Supervision approved the application of Alliance Mutual Holding Company and Greater Delaware Valley Savings Bank, dba Alliance Bank, Broomall, Pennsylvania, to convert to the stock form of organization. Copies of the application are available for inspection by appointment (phone number: 202-906-5922 or e-mail Public.Info@OTS.Treas.gov) at the Public Reading Room, 1700 G Street, NW., Washington, DC 20552, and the OTS Northeast Regional Office, Harborside Financial Center Plaza Five, Suite 1600, Jersey City, New Jersey 07311.

Dated: November 10, 2010.
By the Office of Thrift Supervision.
Sandra E. Evans,
Federal Register Liaison.

[FR Doc. 2010-28952 Filed 11-16-10; 8:45 am]

BILLING CODE 6720-01-M